DEPARTMENT OF EDUCATION

Catalog of Federal Domestic Assistance (CFDA) Number: 84.372A; Statewide Longitudinal Data Systems

AGENCY: Institute of Education Sciences (IES), Department of Education.

ACTION: Notice reopening the Statewide Longitudinal Data Systems fiscal year (FY) 2009 competition.

SUMMARY: On June 26, 2008, we published in the Federal Register (73 FR 36305) a notice inviting applications for the Statewide Longitudinal Data Systems FY 2009 competition. That notice established a September 25, 2008, deadline date for eligible applicants to apply for funding under this program. As a result of the notice published on June 26, 2008, 34 eligible entities submitted applications. A number of applicants, however, experienced difficulty with submitting their applications electronically, and, as a result, a few applications were received shortly after the original deadline.

In order to ensure fairness and afford as many eligible applicants as possible an opportunity to be considered for funding under this program, we are reopening the Statewide Longitudinal Data Systems FY 2009 competition to eligible applicants that were not able to submit applications by the original deadline date. Thus, we will consider as received timely, all of the applications we received through Grants.gov to this date, and will consider as timely any additional applications or amendments submitted through paper submission by the new deadline date established in this notice. All information in the June 26, 2008 notice remains the same for new applications and revisions to previously submitted applications submitted in response to this reopening notice, except for the following updates to the DATES section and section V. Submission of Applications.

DATES: Applications Available: November 19, 2008.

Note: The application package for this competition and instructions are available at the following Internet address: http://nces.ed.gov/Programs/SLDS/grant_opportunities.asp.

Deadline for Transmittal of Applications: November 26, 2008.

V. Submission of New Applications or Revisions to Previously Submitted Applications

New applications or revisions to previously submitted applications for grants under this program must be submitted in paper format by mail or hand delivery.

a. Submission of Applications by Mail

If you submit your new application or revisions to a previously submitted application by mail (through the U.S. Postal Service or a commercial carrier), you must mail the original and two copies of your new application or revisions to a previously submitted application, on or before the application deadline date, to the Department at the following address: U.S. Department of Education, Application Control Center, Attention: (CFDA Number 84.372A), LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your new application or revisions to a previously submitted application through the U.S. Postal Service, we do not accept either of the following as proof of mailing:

(1) A private metered postmark.

(2) A mail receipt that is not dated by the U.S. Postal Service.

If your new application or revision to a previously submitted application is postmarked after the application deadline date, we will not consider your new application or revisions to a previously submitted application.

Note: The U.S. Postal Service does not uniformly provide a dated postmark. Before relying on this method, you should check with your local post office.

b. Submission of Applications by Hand Delivery

If you submit your new application or revisions to a previously submitted application by hand delivery, you (or a courier service) must deliver the original and two copies of your new application or revisions to a previously submitted application by hand, on or before the application deadline date, to the Department at the following address: U.S. Department of Education, Application Control Center, Attention: (CFDA Number: 84.372A), 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your new application or revisions to a previously submitted application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

FOR FURTHER INFORMATION CONTACT: Tate Gould, U.S. Department of Education, National Center for Education Statistics, 1990 K Street, NW., Room 9023, Washington, DC 20006-5651. Telephone: (202) 219-7080 or via Internet: Tate.Gould@ed.gov.

If you use a telecommunications device for the deaf (TDD), you may call the Federal Relay Service (FRS) at 1-800-877-8339. Individuals with disabilities may obtain this notice in an alternative format (e.g., braille, large print, audiotape, or computer diskette) on request to the contact person listed in this section.

Electronic Access to This Document: You may view this document, as well as other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: www.gpoaccess.gov/nara/index.html.

Program Authority: 20 U.S.C. 9607.

Dated: November 13, 2008.
Grover J. Whitehurst,
Director, Institute of Education Sciences.

[FR Doc. E8-27463 Filed 11-18-08; 8:45 am]

BILLING CODE 4000-01-P